COMMITTEE FOR PURCHASE FROM PEOPLE WHO ARE BLIND OR SEVERELY DISABLED

Procurement List; Change

AGENCY: Committee for Purchase From People Who Are Blind or Severely Disabled.

ACTION: Change to the Procurement List.

SUMMARY: This action changes information regarding a service on the Procurement List that is furnished by a nonprofit agency employing persons who are blind or have other severe disabilities.

DATES: Effective date of this action will be the date of allocation.

ADDRESSES: Committee for Purchase From People Who Are Blind or Severely Disabled, 355 E Street SW, Washington, DC 20024.

FOR FURTHER INFORMATION CONTACT: Michael R. Jurkowski, Telephone: (703) 785-6404, or email CMTEFedReg@AbilityOne.gov.

SUPPLEMENTARY INFORMATION:

Additions; Transfer

The Committee has authorized two changes to the Procurement List: authorization to transfer the Procurement List requirement described herein and authorized additional sources of supply. The Federal Government entity identified in this notice will be required to procure the services listed below from nonprofit agencies employing persons who are blind or have other severe disabilities.

Regulatory Flexibility Act Certification

I certify that the following action will not have a significant impact on any small entities. The major factors considered for this certification were:

1. The action did not result in any additional reporting, recordkeeping, or other compliance requirements for small entities other than the nonprofit agencies furnishing the services to the Government.

2. The action did result in authorizing nonprofit agencies to furnish the products to the Government.

3. There were no known regulatory alternatives which would have accomplished the objectives of the Javits-Wagner-O'Day Act (41 U.S.C. 8501-8506) in connection with the products added to the Procurement List.

End of Certification

The following are changes to the service currently on the Procurement List:

Service(s)

Service Type: Facilities Maintenance Services

Mandatory for: U.S. Army, Department of Public Works, Fort Knox, Ky

The Committee for Purchase From People Who Are Blind or Severely Disabled (Committee), is announcing that the Committee approved the transfer of the Total Facilities Maintenance (TFM) Pilot Project at Fort Knox, KY from SourceAmerica to a participating nonprofit agency. Additionally, the Committee announces it approved and added Skookum Contract Services and Professional Contract Services, Inc. to the Procurement List as authorized sources for the TFM requirement.

As announced by the Committee on 3/23/23, 88 FR 17553, the TFM requirement consists of approximately 109,054 acres and 2,326 buildings and covers several functional areas, such as building and structure maintenance, snow and ice removal, landscaping services, utility system maintenance, and others. SourceAmerica is the incumbent TFM contractor, but the Pilot's short-term goal was to allocate the TFM requirement away from SourceAmerica to a participating nonprofit agency utilizing enhanced competitive procedures. SourceAmerica recommended both nonprofit agencies following completion of the Phase I evaluations. The Committee's decision to transfer this requirement and approve the authorized sources formally closes Phase I of the Pilot and authorizes SourceAmerica to commence Phase II.

The Committee has authorized a multi-factor evaluation process for Phase II that includes a price component. In accordance with a Memorandum of Agreement between the U.S. Army, the U.S. AbilityOne Commission (Committee) and SourceAmerica the multi-factor evaluation will assess the two authorized nonprofit agencies on technical capability, past performance, and price. Utilizing considerations of technical capability, past performance and price could require a trade-off analysis between the two nonprofit agencies. However, consistent with the Memorandum of Agreement, the Committee has determined that price may not be given greater weight than technical capability or have greater or equal weight as past performance.

The U.S. Army's Installation Management Command and the Army's Mission and Installation Contracting Command will provide technical support to SourceAmerica throughout the Phase II evaluation process. Because SourceAmerica is one of the central nonprofit agencies designated by the Committee under 41 U.S.C. 8503(c) to allocate orders from the Government, SourceAmerica will select and allocate the TFM requirement to the nonprofit agency proposing the best overall solution to the Army. After Phase II concludes, SourceAmerica will provide a recommended price to the Commission who will consider that recommendation before establishing the fair market price.

Michael R. Jurkowski,
Acting Director, Business Operations.

[FR Doc. 2023-11846 Filed 6-2-23; 8:45 am]

BILLING CODE 6353-01-P